DEPARTMENT OF HOMELAND SECURITY

Coast Guard

33 CFR Part 117

[CGD08-04-021]

Drawbridge Operation Regulations; Atchafalaya River; Melville, LA

AGENCY: Coast Guard, DHS.

ACTION: Notice of temporary deviation from regulations.

SUMMARY: The Commander, Eighth Coast Guard District, has issued a temporary deviation from the regulation governing the operation of the Melville Railroad Vertical Lift Bridge across the Atchafalaya River, mile 107.4, near Melville, St. Landry and Pointe Coupee Parishes, Louisiana. This deviation allows the bridge to remain closed to navigation for two (2) four-hour segments each day on Friday and Saturday, June 11-12, 2004. The deviation is necessary to repair and replace rails on the bridge.

DATES: This deviation is effective from 7 a.m. on Friday June 11, 2004, until 5 p.m. on Saturday June 12, 2004.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Union Pacific Railroad has requested a temporary deviation in order to remove and replace rails on the Melville Railroad Vertical Lift Bridge across the Atchafalaya River, mile 107.4, near Melville, St. Landry and Pointe Coupee Parishes, Louisiana. The repairs are necessary to ensure the safety of the bridge. This temporary deviation will allow the bridge to remain in the closed-to-navigation position from 7 a.m. until 11 a.m. and from 1 p.m. until 5 p.m. on Friday, June 11, 2004, and Saturday, June 12, 2004.

The bridge has a vertical clearance of four feet above mean high water in the closed-to-navigation position and 54 feet above mean high water in the open-to-navigation position. Navigation at the site of the bridge consists mainly of tows with barges and some recreational pleasure craft. Due to prior experience, as well as coordination with waterway users, it has been determined that this closure will not have a significant effect on these vessels. No alternate routes are available. The bridge will be able to open for emergencies.

In accordance with 33 CFR 117.35(c), this work will be performed with all due speed in order to return the bridge to normal operation as soon as possible. This deviation from the operating regulations is authorized under 33 CFR 117.35.

Dated: May 13, 2004.
Marcus Redford,
Bridge Administrator.

[FR Doc. 04-11893 Filed 5-25-04; 8:45 am]

BILLING CODE 4910-15-P